DEPARTMENT OF ENERGY

Federal Energy Regulatory Commission

[Docket Nos. CP20-52-000; CP20-52-001]

WBI Energy Transmission, Inc.; Notice of Availability of the Environmental Assessment for the Proposed North Bakken Expansion Project

The staff of the Federal Energy Regulatory Commission (FERC or Commission) has prepared an environmental assessment (EA) for the North Bakken Expansion Project proposed by WBI Energy Transmission, Inc. (WBI Energy) in the above-referenced docket. WBI Energy requests authorization to construct, modify, operate, and maintain a new natural gas pipeline and associated facilities in McKenzie, Williams, Mountrail, and Burke Counties, North Dakota to transport up to 250,000 million cubic feet per day of natural gas from the Williston Basin in northwest North Dakota to a new interconnect with Northern Border Pipeline Company's existing mainline. The proposed facilities are collectively known as the North Bakken Expansion Project (Project).

The EA assesses the potential environmental effects of the construction and operation of the Project in accordance with the requirements of the National Environmental Policy Act (NEPA). The FERC staff concludes that approval of the proposed Project, with appropriate mitigating measures, would not constitute a major federal action significantly affecting the quality of the human environment.

The U.S. Army Corps of Engineers (USACE), the U.S. Bureau of Land Management (BLM), and the U.S. Forest Service (USFS) participated as cooperating agencies in the preparation of this EA. Cooperating agencies have jurisdiction by law or special expertise with respect to resources potentially affected by WBI Energy's proposal and participate in the NEPA analysis. The USACE will use the EA and supporting documentation to consider the issuance of Clean Water Act Section 404, Section 408, and Rivers and Harbors Act Section 10 permits. The Project would also cross lands administered by the USACE and USFS. While the BLM does not have any BLM-administered lands identified as part of the proposed route alignment for this Project, the BLM will use the EA, along with other supporting documentation, in coordination with the USACE and USFS, in the issuance of a Mineral Leasing Act (MLA) right-of-way grant over federally administered lands (USACE and USFS). Although the cooperating agencies provided input to the conclusions and recommendations presented in the EA, the agencies will present their own conclusions and recommendations in their respective decision process for the Project.

The proposed North Bakken Expansion Project includes the following facilities in North Dakota:

• 62.8 miles of new 24-inch-diameter pipeline from WBI Energy's Tioga Compressor Station in Williams County to the proposed Elkhorn Creek Compressor Station in McKenzie County;

• 0.3 mile of new 24-inch-diameter pipeline between the proposed Elkhorn Creek Compressor Station and Northern Border Pipeline Company in McKenzie County;

• 20.3 miles of new 12-inch-diameter pipeline looping along WBI Energy's existing Line Section 25 between the Tioga Compressor Station and the proposed Norse Transfer Station in Burke County; ¹

¹ A pipeline loop is a segment of pipe constructed parallel to an existing pipeline to increase capacity.

• replacement of the existing 0.1 mile 6-inch-diameter Stoneview-Conoco Lateral with 0.1 mile of 8-inch-diameter natural gas pipeline from Line Section 25 to the proposed Norse Transfer Station in Burke County.

• 9.6 miles of new 12-inch-diameter natural gas pipeline looping along WBI Energy's Line Section 30 between the Nesson Valve Setting and the Tioga Compressor Station in Williams County;

• 0.5 mile of new 20-inch-diameter natural gas pipeline between the new Tioga Plant Receipt Station and new facilities at the Tioga Compressor Station in Williams County;

• uprates to WBI Energy's Line Section 25 in Burke County;

• one new 3,750 horsepower compressor station (Elkhorn Creek Compressor Station) in McKenzie County and the addition of 11,250 horsepower at the existing Tioga Compressor Station in Williams County;

• new, and modifications to, existing delivery, receipt, and transfer stations along WBI Energy's pipeline routes in Burke, McKenzie, Mountrail, and Williams Counties; and

• replacement of small segments of pipeline facilities and installation of block valves, pig ² launcher/receiver stations, and associated appurtenances.

² A pipeline pig is a device used to clean or inspect the pipeline. A pig launcher/receiver is an aboveground facility where pigs are inserted or retrieved from the pipeline.

The Commission mailed a copy of the Notice of Availability to federal, state, and local government representatives and agencies; elected officials; environmental and public interest groups; Native American tribes; potentially affected landowners, and local libraries and newspapers. The EA is only available in electronic format. It may be viewed and downloaded from FERC's website (www.ferc.gov) on the natural gas environmental documents page (https://www.ferc.gov/industries-data/natural-gas/environmental-document). In addition, the EA may be accessed by using the eLibrary link on FERC's website. Click on the eLibrary link (https://www.ferc.gov/ferc-online/elibrary), select General Search and enter the docket number in the Docket Number field (i.e., CP20-52). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this Project, it is important that we receive your comments in Washington, DC on or before 5:00 p.m. Eastern Time on January 19, 2021.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on eRegister. You must select the type of filing you are making. If you are filing a comment on a particular project, please select Comment on a Filing; or

(3) You can file a paper copy of your comments by mailing them to the Commission. Be sure to reference the project docket number (CP20-52-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/ferc-online/ferc-online/how-guides.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: December 17, 2020.
Kimberly D. Bose,
Secretary.

[FR Doc. 2020-28390 Filed 12-22-20; 8:45 am]

BILLING CODE 6717-01-P